DEPARTMENT OF JUSTICE

Notice of Lodging of Consent Decree Pursuant to the Resource Conservation and Recovery Act, the Clean Air Act, and the Clean Water Act

In accordance with 28 CFR 50.7, notice is hereby given that on April 18, 2001, a Consent Decree in United States v. Massachusetts Institute of Technology, Civil Action No. 01-cv10646-JLT, was lodged with the United States District Court for the District of Massachusetts. A complaint in the action was also filed simultaneously with the lodging of the Consent Decree. In the complaint the United States alleges that the defendant Massachusetts Institute of Technology (“MIT”) (a) violated federal hazardous waste emergency, storage, handling, and labeling regulations promulgated under the Resource Conservation and Recovery Act, 42 U.S.C. 6901, et seq. (“RCRA”), (b) failed to comply with requirements relating to monitoring and reporting in violation of the Clean Air Act, 42 U.S.C. 7401 et seq., and (c) failed to meet regulatory requirements relating to oil spill prevention plans in violation of section 311 of the Clean Water Act, 33 U.S.C. 1321.

Under the proposed decree, MIT will pay a civil penalty of $155,000, undertake three Supplemental Environmental Projects, and comply with a variety of injunctive measures to achieve full compliance with RCRA, the CAA, and the CWA.

The Department of Justice will receive comments relating to the proposed Consent Decree for a period of thirty (30) days from the date of this publication. Comments should be addressed to the Assistant Attorney General, Environment and Natural Resources Division, Department of Justice, P.O. Box 7611, Washington, DC 20044, and should refer to United States v. Massachusetts Institute of Technology, D.J. Ref. 90-7-1-06942.

The proposed consent decree may be examined at the office of the United States Attorney, Suite 9200, 1 Courthouse Way, Boston, Massachusetts 02110, and at the Region I office of the Environmental Protection Agency, One Congress Street, Suite 1100, Boston, Massachusetts 02114. A copy of the proposed consent decree may also be obtained by mail from the Department of Justice Consent Decree Library, PO Box 7611, Washington, DC 20044. In requesting a copy, please enclose a check (there is a 25 cent per page reproduction cost) in the amount of $20.25 payable to the “Consent Decree Library.”

Ronald G. Gluck,
Assistant Chief, Environmental Enforcement Section, Environment & Natural Resources Division.

[FR Doc. 01-11123 Filed 5-2-01; 8:45 am]

BILLING CODE 4410-15-M